DEPARTMENT OF HEALTH AND HUMAN SERVICES

National Institutes of Health

Office of the Director; Notice of Meeting

Pursuant to Pub. L. 92-463, notice is hereby given of a meeting of the Advisory Committee to the Director, NIH.

The entire meeting will be open to the public as indicated below, with attendance limited to space available. Individuals who plan to attend and need special assistance, such as sign language interpretation or other reasonable accommodations, should inform the Contact Person listed below in advance of the meeting. The meeting will take place via conference call with the members. A speaker phone will be installed in the conference room for the public to listen to the discussion.

Name of Committee: Advisory Committee to the Director, NIH.

Date: July 14, 2000.

Time: 12-1 p.m.

Agenda: To discuss and provide advice on the first part of the Report from the Working Group on NIH Oversight of Clinical Gene Transfer Research.

Place: National Institutes of Health, 1 Center Drive, Building 1, Room 151, Bethesda, Maryland 20892.

Contact Person: Ms. Janice C. Ramsden, Special Assistant to the Acting Director, NIH, National Institutes of Health, Building 1, Room 235, Bethesda, Maryland 20892, jr52h@nih.gov, Telephone: (301) 496-0959.

This notice is being published less than fifteen days in advance of the meeting due to scheduling conflicts among the members.

Dated: July 6, 2000.
LaVerne Stringfield,
Director, Office of Federal Advisory Committee Policy.

[FR Doc. 00-17690 Filed 7-12-00; 8:45 am]

BILLING CODE 4140-01-M